DEPARTMENT OF AGRICULTURE

Forest Service

Southeast Washington Forest Resource Advisory Committee

AGENCY: Forest Service, USDA.

ACTION: Notice of meeting.

SUMMARY: The Southeast Washington Forest Resource Advisory Committee (RAC) will meet in Pomeroy, Washington. The RAC is authorized under the Secure Rural Schools and Community Self-Determination Act (the Act) and operates in compliance with the Federal Advisory Committee Act. The purpose of the RAC is to improve collaborative relationships and to provide advice and recommendations to the Forest Service concerning projects and funding consistent with the Act.

DATES: The meeting will be held on July 26, 2017, and will begin at 6:00 p.m.

All RAC meetings are subject to cancellation. For status of meeting prior to attendance, please contact the person listed under FOR FURTHER INFORMATION CONTACT.

ADDRESSES: The meeting will be held at the Pomeroy Ranger District Office, 71 West Main Street, Pomeroy, Washington.

Written comments may be submitted as described under SUPPLEMENTARY INFORMATION. All comments, including names and addresses when provided, are placed in the record and are available for public inspection and copying. The public may inspect comments received at the Pomeroy Ranger District. Please call ahead to facilitate entry into the building.

FOR FURTHER INFORMATION CONTACT: Monte Fujishin, RAC Designated Federal Officer, by phone at 509-843-4620 or by email at mfujishin@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Review of past projects and progress of continuing projects,

2. Discussion and selection of proposed projects,

3. Public Comments.

The meeting is open to the public. The agenda will include time for people to make oral statements of three minutes or less. Individuals wishing to make an oral statement should request in writing by July 17, 2017, to be scheduled on the agenda. Anyone who would like to bring related matters to the attention of the RAC may file written statements with the RAC staff before or after the meeting. Written comments and requests for time to make oral comments must be sent to Monte Fujishin, RAC Designated Federal Officer, Pomeroy Ranger District, 71 West Main Street, Pomeroy, Washington 99347; by email to mfujishin@fs.fed.us, or via facsimile to 509-843-4621.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case by case basis.

Dated: June 12, 2017.
Glenn Casamassa,
Assoctiate Deputy Chief, National Forest System.

[FR Doc. 2017-14135 Filed 7-5-17; 8:45 am]

BILLING CODE 3411-15-P